DEPARTMENT OF ENERGY

Federal Energy Regulatory Commission

[Docket No. CP02-434-000]

ANR Pipeline Company; Notice of Site Visit

November 1, 2002.

On November 21, 2002, the Office of Energy Projects (OEP) staff will conduct a pre-certification site visit of ANR Pipeline Company's (ANR) WestLeg Project in McHenry County, Illinois and Walworth and Rock Counties, Wisconsin. We will examine the proposed project route by automobile and on foot. Representatives of ANR will be accompanying the OEP staff.

All interested parties may attend. Those planning to attend must provide their own transportation. Those interested in attending should meet at 8 .a.m at the following location: Holiday Inn Express (lobby), 2790 Milwaukee Rd., Beloit, WI 53511.

For additional information, please contact the Commission's Office of External Affairs at 1-866-208-FERC.

Linwood A. Watson, Jr.,
Deputy Secretary.

[FR Doc. 02-28438 Filed 11-7-02; 8:45 am]

BILLING CODE 6717-01-P